DEPARTMENT OF VETERANS AFFAIRS

Clinical Science Research and Development Service Cooperative Studies Scientific Merit Review Board; Notice of Meeting

The Department of Veterans Affairs (VA) gives notice under Public Law 92-463 (Federal Advisory Committee Act) that a meeting of the Clinical Science Research and Development Service Cooperative Studies Scientific Merit Review Board will be held on October 17-18, 2006, at the Hotel Palomar, 2121 P Street, NW., Washington, DC. On October 17, the session is scheduled to begin at 8:30 a.m. and end at 3 p.m. and on October 18, to begin at 8:30 a.m. and end at 10:30 a.m.

The Board advises the Chief Research and Development Officer through the Director of the Clinical Science Research and Development Service on the relevance and feasibility of proposed projects and the scientific validity and propriety of technical details, including protection of human subjects.

The session will be open to the public on October 17 from 8:30 a.m. to 9 a.m. for the discussion of administrative matters and the general status of the program. The sessions will be closed from 9 a.m. to 3 p.m. on October 17 and will be closed the entire day on October 18, 2006 for the Board's review of research and development applications.

During the closed portions of the meeting, discussion and recommendations will include qualifications of the personnel conducting the studies (the disclosure of which would constitute a clearly unwarranted invasion of personal privacy), as well as research information (the premature disclosure of which would be likely to compromise significantly the implementation of proposed agency action regarding such research projects). As provided by subsection 10(d) of Public Law 92-463, as amended by Public Law 94-409, closing portions of these meetings is in accordance with 5 U.S.C. 552b(c)(6) and (c)(9)(B).

Those who plan to attend should contact Dr. Grant Huang, Deputy Director, Cooperative Studies Program (125), Department of Veterans Affairs, 810 Vermont Avenue, NW., Washington, DC 20420, at (202) 254-0183.

Dated: September 22, 2006.
By direction of the Secretary.
E. Philip Riggin,
Committee Management Officer.

[FR Doc. 06-8462 Filed 10-2-06; 8:45 am]

BILLING CODE 8320-01-M